NATIONAL SCIENCE FOUNDATION

Biological Sciences Advisory Committee; Notice of Meeting

In accordance with the Federal Advisory Committee Act (Pub. L., 92-463, as amended), the National Science Foundation announces the following meeting:

Name: Biological Sciences Advisory Committee (#1110).

Date and Time: June 27, 2013; 8:30 a.m. to 11:30 a.m. and 1:00 p.m. to 4:00 p.m.

Place: This meeting will be held by teleconference at the National Science Foundation, 4201 Wilson Blvd., Room 687, Arlington, VA 22230.

All visitors should contact the Directorate of Biological Sciences [call 703-292-8400 or send an email message to erchiang@nsf.gov] at least 24 hours prior to the teleconference to arrange for a visitor's badge. All visitors must report to the NSF visitor desk located in the lobby at the 9th and N. Stuart Streets entrance on the day of the teleconference to receive a visitor's badge.

Type of Meeting: Open.

Contact Person: Charles Liarakos, National Science Foundation, Room 605, 4201 Wilson Boulevard, Arlington, VA 22230 Tel No.: (703) 292-8400.

Purpose of Meeting: The Advisory Committee for the Directorate for Biological Sciences provides advice, recommendations, and oversight concerning major program emphases, directions, and goals for the research-related activities of the divisions that make up of the Directorate for Biological Sciences.

Agenda: Items on the agenda include the BIO FY14 budget request, graduate education and CAREER programs, data management and access, and the draft NSF strategic plan for 2014-2018.

Dated: May 29, 2013
Susanne Bolton,
Committee Management Officer.

[FR Doc. 2013-12996 Filed 5-31-13; 8:45 am]

BILLING CODE 7555-01-P